SECURITIES AND EXCHANGE COMMISSION

[File No. 500-1]

Aris Industries, Inc., Bene Io, Inc., Commodore Separation Technologies, Inc., Food Integrated Technologies, Inc., Gap Instrument Corp., Skysat Communications Network Corp., and Vicon Fiber Optics Corp.; Order of Suspension of Trading

June 28, 2010.

It appears to the Securities and Exchange Commission that there is a lack of current and accurate information concerning the securities of Aris Industries, Inc. because it has not filed any periodic reports since the period ended June 30, 2004.

It appears to the Securities and Exchange Commission that there is a lack of current and accurate information concerning the securities of Bene Io, Inc. because it has not filed any periodic reports since the period ended September 30, 2000.

It appears to the Securities and Exchange Commission that there is a lack of current and accurate information concerning the securities of Commodore Separation Technologies, Inc. because it has not filed any periodic reports since the period ended June 30, 2004.

It appears to the Securities and Exchange Commission that there is a lack of current and accurate information concerning the securities of Food Integrated Technologies, Inc. because it has not filed any periodic reports since the period ended January 31, 1997.

It appears to the Securities and Exchange Commission that there is a lack of current and accurate information concerning the securities of Gap Instrument Corp. because it has not filed any periodic reports since the period ended September 30, 1997.

It appears to the Securities and Exchange Commission that there is a lack of current and accurate information concerning the securities of Skysat Communications Network Corp. because it has not filed any periodic reports since the period ended September 30, 1997.

It appears to the Securities and Exchange Commission that there is a lack of current and accurate information concerning the securities of Vicon Fiber Optics Corp. because it has not filed any periodic reports since the period ended September 30, 2003.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 28, 2010, through 11:59 p.m. EDT on July 12, 2010.

By the Commission.
Elizabeth M. Murphy,
Secretary.

[FR Doc. 2010-16000 Filed 6-28-10; 11:15 am]

BILLING CODE 8010-01-P